DEPARTMENT OF AGRICULTURE

Animal and Plant Health Inspection Service

[Docket No. APHIS-2011-0122]

Notice of Request for Extension of Approval of an Information Collection; Importation of Swine and Swine Products From the European Union

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for the importation of swine and swine products from the European Union.

DATES: We will consider all comments that we receive on or before May 14, 2012.

ADDRESSES: You may submit comments by either of the following methods:

• Federal eRulemaking Portal: Go to http://www.regulations.gov/#!documentDetail;D=APHIS-2011-0122-0001.

• Postal Mail/Commercial Delivery: Send your comment to Docket No. APHIS-2011-0122, Regulatory Analysis and Development, PPD, APHIS, Station 3A-03.8, 4700 River Road Unit 118, Riverdale, MD 20737-1238.

Supporting documents and any comments we receive on this docket may be viewed at http://www.regulations.gov/#!docketDetail;D=APHIS-2011-0122 or in our reading room, which is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: For information on regulations for the importation of swine and swine products from the European Union, contact Dr. Langston Hull, Senior Staff Veterinarian, Technical Trade Services Team—Animals, NCIE, VS, APHIS, 4700 River Road Unit 38, Riverdale, MD 20737; (301) 851-3300. For copies of more detailed information on the information collection, contact Mrs. Celeste Sickles, APHIS' Information Collection Coordinator, at (301) 851-2908.

SUPPLEMENTARY INFORMATION: Title: Importation of Swine and Swine Products from the European Union.

OMB Number: 0579-0265.

Type of Request: Extension of approval of an information collection.

Abstract: The Animal Health Protection Act (7 U.S.C. 8301 et seq.), authorizes the Secretary of Agriculture to, among other things, prohibit or restrict the importation and interstate movement of animals and animal products to prevent the introduction into or dissemination within the United States of animal diseases and pests. Regulations governing the importation of animals and animal products into the United States are contained in 9 CFR parts 92 through 98.

The regulations in 9 CFR part 94 prohibit or restrict the importation of certain animals and animal products, including live swine, pork and pork products into the United States to prevent the introduction into U.S. livestock population of certain animal diseases, including classical swine fever (CSF), rinderpest, foot-and-mouth disease, swine vesicular disease, and African swine fever.

Section 94.24 deals specifically with the importation of pork and pork products from regions where CSF exists. The regulations allow, under specified conditions, the importation of pork, pork products, and swine from the APHIS-defined European Union CSF region. These requirements necessitate the use of several information collection activities, including certification statements for the importation of pork, pork products, and swine; and the placing of seals on certain conveyances.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Foreign animal health officials.

Estimated annual number of respondents: 15.

Estimated annual number of responses per respondent: 456.4.

Estimated annual number of responses: 6,846.

Estimated total annual burden on respondents: 6,846 hours. (Due to averaging, the total annual burden hours may not equal the product of the annual number of responses multiplied by the reporting burden per response.)

All responses to this notice will be summarized and included in the request for OMB approval. All comments will also become a matter of public record.

Done in Washington, DC, this 7th day of March 2012.
Kevin Shea,
Acting Administrator, Animal and Plant Health Inspection Service.

[FR Doc. 2012-5999 Filed 3-12-12; 8:45 am]

BILLING CODE 3410-34-P